Title 3—

The President

Proclamation 10872 of December 13, 2024

Bill of Rights Day, 2024

By the President of the United States of America

A Proclamation

America is the only country in the world founded on an idea: that we are all created equal and deserve to be treated equally throughout our lives. Two hundred and thirty-three years ago today, that idea was at the heart of our Nation's Bill of Rights, launching the greatest self-government experiment in the history of the world and endowing all of us with fundamental rights and liberties. Today, we recommit to safeguarding those first 10 freedoms guaranteed by the Bill of Rights and all the progress we have made to protect Americans since.

The freedoms guaranteed to us in the Bill of Rights help define the soul of our Nation. The first 10 Amendments to the United States Constitution include the freedoms of religion, speech, press, assembly, and privacy, which form our Nation's north star. And the 17 additional Amendments that came later helped our Nation realize its promise of liberty and justice for all—from abolishing our Nation's original sin of slavery to giving women the right to vote.

But freedom is never guaranteed—every generation has had to defend and fight for it. In recent years, long-established civil rights principles and protections have been undermined and challenged. The Supreme Court gutted the Voting Rights Act in 2013, opening the floodgates to a new wave of restrictive voting laws that States across the country have passed. Anti-LGBTQI+ rights bills have emboldened discrimination against Americans for who they are and whom they love. And in 2022, the Court overruled Roe v. Wade and took away the constitutional right to choose, which had been the law of the land for nearly 50 years.

As President, I made it my mission to protect our democracy and the freedoms it guarantees. When the Supreme Court overturned Roe v. Wade, I took executive action to protect women's access to reproductive health care. To protect the will of the people, right to vote, and have that vote counted—which is the threshold of democracy and liberty—I signed the Electoral Count Reform Act to ensure the peaceful transfer of power. And to protect the civil rights and liberties of LGBTQI+ Americans, I signed the landmark Respect for Marriage Act, upholding the rights of same-sex and interracial couples. But there is still more to do to ensure that our Nation respects the civil rights and liberties of all Americans. I continue to call on the Congress to restore the protections of Roe v. Wade in Federal law and pass the Freedom to Vote Act and the John Lewis Voting Rights Advancement Act.

On Bill of Rights Day, we recommit to protecting and expanding Americans’ civil rights and liberties. We must continue fighting for progress and following our Nation's north star, securing dignity and respect for all Americans. And we must continue to strengthen the guardrails of our democracy, ensuring that our Nation and all the freedoms it guarantees will be enjoyed for generations to come. I know we can do it—because together, nothing is beyond our capacity.

NOW, THEREFORE, I, JOSEPH R. BIDEN JR., President of the United States of America, by virtue of the authority vested in me by the Constitution and the laws of the United States, do hereby proclaim December 15, 2024, as Bill of Rights Day. I call upon the people of the United States to observe this day with appropriate ceremonies and activities.

IN WITNESS WHEREOF, I have hereunto set my hand this thirteenth day of December, in the year of our Lord two thousand twenty-four, and of the Independence of the United States of America the two hundred and forty-ninth.

[FR Doc. 2024-30300

Filed 12-17-24; 8:45 am]

Billing code 3395-F4-P